SECURITIES AND EXCHANGE COMMISSION

[Release No. 34-45685; File No. SR-NASD-2001-86]

Self-Regulatory Organizations; Order Granting Approval of Proposed Rule Change by the National Association of Securities Dealers, Inc. Relating to Fees for Nasdaq Index Information

April 3, 2002.

On December 4, 2001, the National Association of Securities Dealers, Inc. (“NASD”), through its subsidiary, The Nasdaq Stock Market, Inc. (“Nasdaq”), filed with the Securities and Exchange Commission (“Commission”), pursuant to Section 19(b)(1) of the Securities Exchange Act of 1934 (“Act”)¹ and Rule 19b-4 thereunder,² a proposed rule change to amend NASD Rule 7030 (Special Options) to increase the monthly fee charged to market data vendors for non-core, real-time information about Nasdaq indexes. Nasdaq established the fee in 1992 at $500 per month. The proposed rule change would raise the fee to $2,000 per month.

¹ 15 U.S.C. 78s(b)(1).

² 17 CFR 240.19b-4.

The proposed rule change was published for notice and comment in the Federal Register on March 1, 2002.³ The Commission received no comments on the proposal. This order approves the proposed rule change.

³ See Securities Exchange Act Release No. 45472 (February 22, 2002), 67 FR 9489.

The Commission finds that the proposed rule change is consistent with the requirements of the Act and the rules and regulations thereunder applicable to a national securities association ⁴ and, in particular, the requirements of Sections 15A(b)(5)⁵ and (6)⁶ of the Act. Section 15A(b)(5) requires the equitable allocation of reasonable fees and charges among members and other users of facilities operated or controlled by a national securities association. Section 15A(b)(6) requires rules that foster cooperation and coordination with persons engaged in facilitating transactions in securities and that are not designed to permit unfair discrimination between customers, issuers, brokers or dealers. The Commission received no comments on the proposed fee increase. The Commission believes that the fee is reasonable, given Nasdaq's representations regarding the 1,800% growth of Nasdaq trading volume, the increase in processing demands, and the increase in the subscriber audience since the fee's inception. The Commission believes that increasing the fee from $500 per month to $2,000 per month should not impede the widespread availability of the index information on a non-discriminatory basis.

⁴ In approving this proposed rule change, the Commission has considered the proposed rule's impact on efficiency, competition, and capital formation. 15 U.S.C. 78c(f).

⁵ 15 U.S.C. 78o-3(b)(5).

⁶ 15 U.S.C. 78o-3(b)(6).

It is therefore ordered, pursuant to Section 19(b)(2) of the Act,⁷ that the proposed rule change (SR-NASD-2001-86) be, and it hereby is, approved.

⁷ 15 U.S.C. 78s(b)(2).

For the Commission, by the Division of Market Regulation, pursuant to delegated authority.⁸
J. Lynn Taylor,
Assistant Secretary.

⁸ 17 CFR 200.30-3(a)(12).

[FR Doc. 02-8485 Filed 4-8-02; 8:45 am]

BILLING CODE 8010-01-P